FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 010979-059.

Title: Caribbean Shipowners Association.

Parties: CMA CGM, S.A.; Crowley Caribbean Services LLC; Hybur Ltd.; King Ocean Services Limited; Seaboard Marine, Ltd.; Seafreight Line, Ltd.; Tropical Shipping and Construction Company Limited; U.S. Lines Limited; and Zim Integrated Shipping Services, Ltd.

Filing Party: Wayne R. Rohde, Esq.; Cozen O'Connor, 1627 I Street NW.; Washington, DC 20006.

Synopsis: The amendment would add Belize to the geographic scope of the agreement.

Agreement No.: 012250.

Title: LGL/APL Space Charter and Cooperative Working Agreement.

Parties: Liberty Global Logistics LLC and American President Lines Ltd.

Filing Party: Brooke F. Shapiro; Winston & Strawn LLP; 200 Park Avenue; New York, NY 10166.

Synopsis: The agreement authorizes LGL and APL to discuss areas of potential cooperation and possibly engage in the purchasing of space on vessels operated by one another in the trade from U.S. East and Gulf Coasts to European ports, Baltic ports, Arabian Sea, Red Sea, Persian Gulf and Middle East, India and Pakistan, and Oceania ports.

Agreement No.: 012251.

Title: LGL/Hyundai Glovis Space Charter Agreement.

Parties: Liberty Global Logistics LLC and Hyndai Glovis Co. Ltd.

Filing Party: Brooke F. Shapiro; Winston & Strawn LLP; 200 Park Avenue; New York, NY 10166.

Synopsis: The agreement authorizes LGL and Hyundai Glovis to consult and agree upon the sale of space to each other on an ad hoc basis in the trade from the Republic of Korea to the U.S. Atlantic Coast of the United States.

By Order of the Federal Maritime Commission.
Dated: March 7, 2014.
Karen V. Gregory,
Secretary.

[FR Doc. 2014-05423 Filed 3-11-14; 8:45 am]

BILLING CODE 6730-01-P